DEPARTMENT OF ENERGY

Federal Energy Regulatory Commission

[Project No. 2652-007]

PacifiCorp; Notice of Meeting to Discuss Section 10(j) and Endangered Species Act Issues

May 17, 2002.

a. Date and Time of Meeting: June 19, 2002; 10:00 a.m. Mountain Standard Time.

b. Place: Conference Call.

c. FERC Contact: Steve Hocking at steve.hocking@ferc.gov or (202) 219-2656.

d. Purpose of Meeting: Commission staff and the U.S. Fish and Wildlife Service will have a conference call to discuss the U.S. Department of the Interior's recommendation for water quality monitoring under Section 10(j) and any Endangered Species Act issues for the Bigfork Project, P-2652-007. The project is located in Bigfork, Montana.

e. Proposed Agenda: (1) Introduction, (2) Recognize Participants, (3) Meeting Procedures, (4) Section 10(j) Discussion on Water Quality Monitoring, (5) ESA Discussion, (6) Close Meeting.

f. All local, state, and federal agencies, Indian tribes, and other interested parties are invited to join the conference call. Please call Steve Hocking at (202) 219-2656 at least one day in advance for instructions on how to join the conference call.

Magalie R. Salas,
Secretary.

[FR Doc. 02-12944 Filed 5-22-02; 8:45 am]

BILLING CODE 6717-01-P